DEPARTMENT OF JUSTICE

Notice of Lodging of Consent Decree Under the Clean Air Act

Under the policy set out at 28 CFR 50.7, notice is hereby given that on March 18, 2005, the United States lodged with the United States District Court for the Southern District of Ohio a proposed consent decree (“Consent Decree”) in the case of United States, et al v. Ohio Edison Co., et al., Civ. A. No. 2:99-CV-1181. The Consent Decree settles claims under the Clean Air Act (“Act”) by the United States and the States of New York, New Jersey and Connecticut against Ohio Edison Company (“Ohio Edison”), a subsidiary of FirstEnergyCorp. (“FirstEnergy”), regarding its W.H. Sammis Station coal-fired power plant (“Sammis plant”) in Stratton, Ohio.

The settlement resolves a lawsuit filed in 1999 alleging that Ohio Edison undertook construction projects at the Sammis plant in violation of the Prevention of Significant Deterioration provisions of the Act, 42 U.S.C. 7470-7492, and the New Source Review provisions of the Act, 42 U.S.C. 7501-7515. In a 2003 trial on liability, the U.S. District Court for the Southern District of Ohio upheld the Clean Air Act violations. The Consent Decree settles the remedy phase of the litigation, averting a second trial.

Under the Consent Decree, Ohio Edison agrees to significantly reduce its annual emissions of sulfur dioxide (“SO2”) and nitrogen oxide (“NOX”) by installing state-of-the-art pollution controls on the two largest steam-generating units of the Sammis plant (Units 6 and 7); installing other pollution controls on the five smaller Sammis units (Units 1 to 5); and capping its annual SO2 and NOX emissions from the Sammis plant. In addition, Ohio Edison agrees to undertake pollution reduction measures at several other FirstEnergy coal-fired plants.

As part of the settlement, Ohio Edison agrees to pay a civil penalty of $8.5 million. Ohio Edison also agrees to undertake projects to mitigate past harm to the environment including renewable energy projects valued at approximately $14.4 million, involving electricity generated by wind power (or, with the governments' approval, landfill gas). In addition, Ohio Edison agrees to fund $10 million worth of environmentally beneficial projects in the States of New York, New Jersey and Connecticut. Finally, Ohio Edison agrees to fund a solar energy project in Allegheny County, Pennsylvania, and a project addressing air quality in the Shenandoah National Park.

The Department of Justice will receive for a period of thirty (30) days from the date of this publication comments relating to the Consent Decree. Comments should be addressed to the Assistant Attorney General, Environment and Natural Resources Division, P.O. Box 7611, U.S. Department of Justice, Washington, D.C. 20044-7611, and should refer to United States, et al. v. Ohio Edison Co., et al., DOJ Ref. No. 90-5-2-1-06894.

The Consent Decree may be examined at the offices of the United States Attorney, Southern District of Ohio, 280 North High Street, Fourth Floor, Columbus, Ohio 43215, and at the offices of U.S. EPA Region 5, 77 W. Jackson Boulevard, Chicago, Illinois 60604-3590.

During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $20 (25 cents per page reproduction cost) payable to the U.S. Treasury.

Catherine R. McCabe,
Deputy Chief, Environmental Enforcement Section, Environment and Natural Resources Division.

[FR Doc. 05-6303 Filed 3-29-05; 8:45 am]

BILLING CODE 4410-15-M